FEDERAL COMMUNICATIONS COMMISSION

47 CFR Part 73

[DA 03-3041; MB Docket No. 03-176; RM-10702]

Radio Broadcasting Services; Harrison, MI

AGENCY: Federal Communications Commission.

ACTION: Final rule.

SUMMARY: In this document, the Commission allots Channel 280A at Harrison, Michigan, in response to a petition filed by Commercial Radio of Harrison. See 68 FR 47283 (August 8, 2003). Channel 280A can be allotted to Harrison, Michigan, with a site restriction 14.1 kilometers (8.7 miles) south of the community at coordinates 43-53-33 and 84-49-06. Although Canadian concurrence has been requested for the allotment of Channel 280A at Harrison, Michigan, notification has not been received. Therefore, operation with the facilities specified for Channel 280A at Harrison herein is subject to modification, suspension or termination without right to hearing, if found by the Commission to be necessary in order to conform to the USA-Canadian FM Broadcast Agreement or if specifically objected to by Canada. With this action, this proceeding is terminated. A filing window for channel 280A at Harrison will not be opened at this time. Instead, the issue of opening this allotment for auction will be addressed by the Commission in a subsequent order.

DATES: Effective November 24, 2003.

FOR FURTHER INFORMATION CONTACT: Kathleen Scheuerle, Media Bureau, (202) 418-2180.

SUPPLEMENTARY INFORMATION: This is a synopsis of the Commission's Report and Order, MB Docket No. 03-176, October 8, 2003, and released October 10, 2003. The full text of this Commission decision is available for inspection and copying during normal business hours in the Commission's Reference Center, 445 12th Street, SW., Washington, DC. The complete text of this decision may also be purchased from the Commission's copy contractors, Qualex International, Portals II, 445 12th Street, SW., Room CY-B402, Washington, DC, 20554, telephone 202-863-2893, facsimile 202-863-2898, or via e-mail qualexint@aol.com.

List of Subjects in 47 CFR Part 73

Radio, Radio broadcasting.

Part 73 of Title 47 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under Michigan, is amended by adding Channel 280A at Harrison.

Federal Communications Commission.
John A. Karousos,
Assistant Chief, Audio Division, Media Bureau.

[FR Doc. 03-27369 Filed 10-29-03; 8:45 am]

BILLING CODE 6712-01-P